NUCLEAR REGULATORY COMMISSION

[Docket Nos. 50-269, 50-270, and 50-287; NRC-2021-0127]

Duke Energy Carolinas, LLC; Duke Energy; Oconee Nuclear Station, Units 1, 2, and 3

AGENCY: Nuclear Regulatory Commission.

ACTION: Subsequent license renewal application; receipt.

SUMMARY: The U.S. Nuclear Regulatory Commission (NRC) has received an application for the subsequent renewal of Renewed Facility Operating License Nos. DPR-38, DPR-47, and DPR-55, which authorize Duke Energy Carolinas, LLC (Duke Energy or the applicant) to operate Oconee Nuclear Station (ONS), Units 1, 2, and 3. The subsequent renewed licenses would authorize the applicant to operate ONS for an additional 20 years beyond the period specified in each of the current renewed licenses. The current renewed operating licenses for ONS expire as follows: Unit 1 on February 6, 2033, Unit 2 on October 6, 2033, and Unit 3 on July 19, 2034.

DATES: The subsequent license renewal application referenced in this document is available on June 22, 2021.

ADDRESSES: Please refer to Docket ID NRC-2021-0127 when contacting the NRC about the availability of information regarding this document. You may obtain publicly available information related to this document using any of the following methods:

• Federal Rulemaking Website: Go to https://www.regulations.gov and search for Docket ID NRC-2021-0127. Address questions about Regulations.gov Docket IDs to Stacy Schumann; telephone: 301-287-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Public Library: A copy of the subsequent license renewal application for ONS can be accessed at the following public library: Seneca Library, 300 E South 2nd St., Seneca, SC 29678.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Angela Wu, Office of Nuclear Reactor Regulation, U.S. Nuclear Regulatory Commission, Washington, DC 20555-0001; telephone: 301-415-2995; email: Angela.Wu@nrc.gov.

SUPPLEMENTARY INFORMATION: The NRC has received an application (ADAMS Package Accession No. ML21158A193) from Duke Energy, dated June 7, 2021, filed pursuant to Section 103 of the Atomic Energy Act of 1954, as amended, and part 54 of title 10 of the Code of Federal Regulations, to renew the operating licenses for ONS. Subsequent renewal of the licenses would authorize the applicant to operate the facility for an additional 20-year period beyond the period specified in the respective current renewed operating licenses. The current renewed operating licenses for ONS expire as follows: Unit 1 on February 6, 2033, Unit 2 on October 6, 2033, and Unit 3 on July 19, 2034. The ONS units are Pressurized Water Reactors located in Seneca, South Carolina. The acceptability of the tendered application for docketing, and other matters, including an opportunity to request a hearing, will be the subject of subsequent Federal Register notices.

Dated: June 22, 2021.
For the Nuclear Regulatory Commission.
Lauren K. Gibson,
Chief, License Renewal Project Branch, Division of New and Renewed Licenses, Office of Nuclear Reactor Regulation.

[FR Doc. 2021-13560 Filed 6-24-21; 8:45 am]

BILLING CODE 7590-01-P